DEPARTMENT OF HOMELAND SECURITY

Coast Guard

33 CFR Part 117

[Docket No. USCG-2018-0505]

Drawbridge Operation Regulation; Gulf Intracoastal Waterway, Indian Rocks Beach, FL

AGENCY: Coast Guard, DHS.

ACTION: Notice of deviation from drawbridge regulation.

SUMMARY: The Coast Guard has issued a temporary deviation from the operating schedule that governs the Indian Rocks (SR688) Bridge across the Gulf Intracoastal Waterway, mile 128.2, Indian Rocks Beach, FL. The deviation is necessary to accommodate repairs to the Bridge. This deviation allows the bridge to open, at requested times, a single leaf, and with a 6 hour notice for double leaf openings.

DATES: This deviation is effective without actual notice from July 6, 2018 through 6 p.m. on July 31, 2018. For the purposes of enforcement, actual notice will be used from 6 a.m. May 29, 2018, until July 6, 2018.

ADDRESSES: The docket for this deviation, USCG-2018-0505 is available at http://www.regulations.gov. Type the docket number in the “SEARCH” box and click “SEARCH”. Click on Open Docket Folder on the line associated with this deviation.

FOR FURTHER INFORMATION CONTACT: If you have questions on this temporary deviation, call or email MST1 Deborah A. Schneller, Coast Guard Sector Saint Petersburg Waterways Management; telephone (813) 228-2194 x8133, email Deborah.A.Schneller@uscg.mil.

SUPPLEMENTARY INFORMATION: Florida Department of Transportation (FDOT), bridge owner, via Quinn Construction Inc, has requested a temporary deviation from the operation that governs the Indian Rocks Bridge across the Gulf Intracoastal Waterway, mile 128.2. This deviation is necessary to facilitate mechanical and electrical repairs, painting, roadway and sidewalk grating replacement which includes concrete removal, and spall repair. The bridge is a double-leaf bascule bridge and has a vertical clearance in the closed to navigation position of 21 feet at mean high water.

The current operating schedule is set out in 33 CFR 117.5. Under this temporary deviation, the bridge will operate on demand but single leaf only and with a 6 hour notice for double leaf openings. This section of the Gulf Intracoastal Waterway is predominantly used by a variety of vessels including U.S. government vessels, small commercial vessels and recreational vessels. The Coast Guard has carefully considered the restrictions with waterway users in publishing this temporary deviation.

Vessels able to pass through the bridge in the closed position may do so at anytime. The bridge will be able to open for emergencies and there is no immediate alternate route for vessels to pass. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: June 25, 2018.
Barry L. Dragon,
Director, Bridge Branch, Seventh Coast Guard District.

[FR Doc. 2018-14521 Filed 7-5-18; 8:45 am]

BILLING CODE 9110-04-P